ENVIRONMENTAL PROTECTION AGENCY

40 CFR Parts 174 and 180

[EPA-HQ-OPP-2025-0028; FRL-12474-10-OCSPP]

Receipt of Pesticide Petitions Filed for Residues of Pesticide Chemicals in or on Various Commodities—October 2025

AGENCY: Environmental Protection Agency (EPA).

ACTION: Notice of filing of petitions and request for comment.

SUMMARY: This document announces the Agency's receipt of and solicits public comment on initial filings of pesticide petitions requesting the establishment or modification of regulations for residues of pesticide chemicals in or on various commodities. The Agency is providing this notice in accordance with the Federal Food, Drug, and Cosmetic Act (FFDCA). EPA uses the month and year in the title to identify when the Agency compiled the petitions identified in this notice of filing. Unit II. of this document identifies certain petitions received in 2024 and 2025 that are currently being evaluated by EPA, along with information about each petition, including who submitted the petition and the requested action.

DATES: Comments must be received on or before January 15, 2026.

ADDRESSES: Submit your comments, identified by docket identification (ID) number and the pesticide petition (PP) of interest identified in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• BPPD (Biopesticides and Pollution Prevention Division) (Mail Code 7511M); Shannon Borges; main telephone number: (202) 566-1400; email address: BPPDFRNotices@epa.gov.

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA regulations for residues of pesticide chemicals in or on various food commodities are established under section 408 of the Federal Food, Drug, and Cosmetic Act (FFDCA), 21 U.S.C. 346a. FFDCA section 408(d)(3), 21 U.S.C. 346a(d)(3), requires EPA to publish a notice of receipt of these petitions in the Federal Register and provide an opportunity for public comment on the requests.

C. What action is the Agency taking?

As specified in FFDCA section 408(d)(3), 21 U.S.C. 346a(d)(3), EPA is publishing notice of the receipt of pesticide petitions filed under FFDCA section 408 that request the establishment or modification of regulations for residues of pesticide chemicals in or on various food commodities. The Agency is taking public comment on the requests before responding to the petitioner. Pursuant to 40 CFR 180.7(f), a summary of the petition identified in this document, prepared by the petitioner, is included in a docket. EPA has determined that the pesticide petitions described in this document contain data or information prescribed in FFDCA section 408(d)(2), 21 U.S.C. 346a(d)(2), and 40 CFR 180.7(b); however, EPA has not fully evaluated the sufficiency of the submitted data at this time or whether the data supports granting the pesticide petitions. After considering the public comments, EPA intends to evaluate whether and what action may be warranted. Additional data may be needed before EPA can make a final determination on these pesticide petitions.

Based upon review of the data supporting these petitions and in accordance with its authority under FFDCA section 408(d)(4)(A)(i), EPA may establish a final tolerance or tolerance exemption that “may vary from that sought by the petitioner.” For example, EPA may determine that it is appropriate to vary the commodity name for consistency with EPA's Food and Feed Commodity Vocabulary, which is located here https://www.epa.gov/pesticide-tolerances/food-and-feed-commodity-vocabulary, or vary the tolerance level based on available data, harmonization interests, or the trailing zeros policy. In addition, when evaluating a petition's requests for a tolerance or exemption, EPA will consider how use of the pesticide on a crop for which a tolerance is requested may result in residues in or on commodities related to that requested commodity (e.g., whether use on sugar beets for which a tolerance was requested on sugar beet root also requires a tolerance on sugar beet tops or whether use on a cereal grain for which a grain tolerance was requested also requires a tolerance on related animal feed commodities derived from that cereal grain). Public commenters should consider the possibility of such revisions in preparing comments on these petitions.

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov/dockets/commenting-epa-dockets.

II. Petitions Received

This unit provides the following information about the petitions:

• The Pesticide Petition (PP) Identification (IN) number;

• EPA docket ID number for the petition;

• Information about the petition (i.e., name of the petitioner, name of the pesticide chemical residue and the commodities for which a tolerance or exemption is sought);

• The analytical method available to detect and measure the pesticide chemical residue or the petitioner's statement about why such a method is not needed; and

• The division to contact for that petition.

Additional information on the petitions may be obtained through the petition summaries that were prepared by the petitioners pursuant to 21 U.S.C. 346a(d)(2)(A)(i)(I) and 40 CFR 180.7(b)(1), which are included in the docket for the petition as identified in this unit.

• PP 4E9147. (EPA-HQ-OPP-2024-0474). Interregional Research Project Number 4 (IR-4), IR-4 Project Headquarters, North Carolina State University, 1730 Varsity Drive, Venture IV, Suite 210, Raleigh, NC 27606, requests to amend 40 CFR part 180.568 by removing the established tolerances for residues of flumioxazin, 2-[7-fluoro-3,4-dihydro-3-oxo-4-(2-propynyl)-2H-1,4-benzoxazin-6-yl]-4,5,6,7-tetrahydro-1H-isoindole-1,3(2H)-dione, in or on the raw agricultural commodities in: Berry, low growing, subgroup 13-07G at 0.07 ppm; cotton, undelinted seed at 0.02 ppm; leaf petioles, subgroup 4B at 0.02 ppm; and pea and bean, dried shelled, except soybean subgroup 6C at 0.07 ppm, upon the establishment of the proposed corresponding tolerances. Practical analytical methods for detecting and measuring levels of flumioxazin have been developed and validated in/on all appropriate agricultural commodities and respective processing fractions. Contact: RD.

• PP 5E9173. (EPA-HQ-OPP-2025-0184). Interregional Research Project Number 4 (IR-4), IR-4 Project Headquarters, North Carolina State University, 1730 Varsity Drive, Venture IV, Suite 210, Raleigh, NC 27606, requests to amend 40 CFR part 180.697 by removing the established tolerance for residues of flutianil, (2Z)-2-[2-fluoro-5-(trifluoromethyl)phenyl]sulfanyl-2-[3-(2-methoxyphenyl)thiazolidin-2-ylidene]acetonitrile, including its metabolites and degradates, in or on hop, dried cones at 2 ppm, upon establishment of the proposed tolerance for residues of flutianil in or on hop, dried cones at 6ppm. The residue analytical methods have been adequately validated and are acceptable for data collection and enforcement purposes. Contact: RD.

• PP 5F9195. (EPA-HQ-OPP-2025-2565). BASF Corporation, 26 Davis Drive, Research Triangle Park, NC 27709, requests to amend (increase) the existing afidopyropen tolerance established in 40 CFR part 180.700 in or on orange, subgroup 10-10A from 0.15 parts per million (ppm) to 0.3 ppm. In their initial assessment of afidopyropen (DP No. 441491), EPA's HED indicated the existing methods and accompanying independent method validations were sufficient to support afidopyropen tolerances. EPA's ROCKS stated that the submitted analytical method for plant commodities can adequately detect parent afidopyropen (as well as its dimer M440I007) for the purposes of tolerance enforcement. Contact: RD.

• PP 5E9170. (EPA-HQ-OPP-2025-2400). Interregional Research Project Number 4 (IR-4), IR-4 Project Headquarters, North Carolina State University, 1730 Varsity Drive, Venture IV, Suite 210, Raleigh, NC 27606, requests to establish an exemption from the requirement of a tolerance in 40 CFR part 180 for residues of the viricide, Cucumber Green Mottle Mosaic Virus Strain ON-BM3 in or on cucumber. The petitioner believes no analytical method is needed because an exemption from the requirement of a tolerance is being proposed. Contact: BPPD.

• PP 4E9146. (EPA-HQ-OPP-2024-0421). Interregional Research Project Number 4 (IR-4), IR-4 Project Headquarters, North Carolina State University, 1730 Varsity Drive, Venture IV, Suite 210, Raleigh, NC 27606, requests to establish a tolerance in 40 CFR 180.431 for residues of the herbicide clopyralid (3,6-dichloro-2-pyridinecarboxylic acid), including its metabolites and degradates, in or on the raw agricultural commodity hazelnut at 0.05 ppm, from its application in the acid form or in the form of its salts. Compliance with the tolerance level proposed is to be determined by measuring only clopyralid, (3,6-dichloro-2-pyridinecarboxylic acid), in or on hazelnut. Adequate analytical methods are available for enforcement purposes for clopyralid in plant and animal matrices. Contact: RD.

• PP 4E9147. (EPA-HQ-OPP-2024-0474). Interregional Research Project Number 4 (IR-4), IR-4 Project Headquarters, North Carolina State University, 1730 Varsity Drive, Venture IV, Suite 210, Raleigh, NC 27606, requests to establish tolerances in 40 CFR 180.568 for residues of flumioxazin, 2-[7-fluoro-3,4-dihydro-3-oxo-4-(2-propynyl)-2H-1,4-benzoxazin-6-yl]-4,5,6,7-tetrahydro-1H-isoindole-1,3(2H)-dione, including its metabolites and degradates, in or on the raw agricultural commodities: Avocado at 0.02 ppm; banana at 0.02 ppm; berry, low growing, subgroup 13-07G, except cranberry at 0.07 ppm; celtuce at 0.02 ppm; cottonseed subgroup 20C at 0.02 ppm; cranberry at 0.02 ppm; fennel, Florence, fresh leaves and stalk at 0.02 ppm; fig, dried at 0.46 ppm; fig at 0.02 ppm; guava at 0.02 ppm; lychee at 0.02 ppm; leaf petiole vegetable subgroup 22B at 0.02 ppm; pulses, dried shelled bean, except soybean, subgroup 6-22E at 0.07 ppm; pulses, dried shelled pea subgroup 6-22F at 0.07 ppm; stevia, fresh leaves at 0.03 ppm; stevia dried leaves at 0.15 ppm; sugar apple at 0.02 ppm; Swiss chard at 0.02 ppm; vegetable soybean, edible podded at 0.02 ppm; and vegetable soybean, succulent shelled at 0.02 ppm. Compliance with the tolerance levels specified is to be determined by measuring only flumioxazin. Practical analytical methods for detecting and measuring levels of flumioxazin have been developed and validated in/on all appropriate agricultural commodities and respective processing fractions. Contact: RD.

• PP 5E9168. (EPA-HQ-OPP-2025-0148). Interregional Research Project Number 4 (IR-4), IR-4 Project Headquarters, North Carolina State University, 1730 Varsity Drive, Venture IV, Suite 210, Raleigh, NC 27606, requests to establish a tolerance in 40 CFR 180.300 for combined residues of the plant regulator ethephon [(2-chloroethyl) phosphonic acid] in or on fig at 0.02 parts per million. An acceptable analytical method is available for enforcement purposes. Contact: RD.

• PP 5E9173. (EPA-HQ-OPP-2025-0184). Interregional Research Project Number 4 (IR-4), IR-4 Project Headquarters, North Carolina State University, 1730 Varsity Drive, Venture IV, Suite 210, Raleigh, NC 27606, requests to establish tolerances in 40 CFR 180.697 for residues of the fungicide flutianil, including its metabolites and degradates, in or on the following commodities: Brassica leafy greens subgroup 4-16B at 6 parts per million (ppm); hop, dried cones at 6 ppm; lettuce, head at 1.5 ppm, lettuce, leaf at 4 ppm and peach subgroup 12-12B at 0.3 ppm; and vegetable, fruiting, group 8-10 at 0.3 ppm. Compliance with the tolerance levels specified is to be determined by measuring only flutianil, (2Z)-2-[2-fluoro-5-(trifluoromethyl) phenyl] sulfanyl-2-[3-(2-methoxyphenyl) thiazolidin-2-ylidene] acetonitrile in or on the listed commodities. The residue analytical methods have been adequately validated and are acceptable for data collection and enforcement purposes. Contact: RD.

• PP 5E9187. (EPA-HQ-OPP-2025-1840). Syngenta Crop Protection, LLC., P.O. Box 18300, Greensboro, NC 27419-8300, requests to establish a tolerance in 40 CFR part 180 for residues of the fungicide pydiflumetofen in or on banana, whole fruit at 0.4 parts per million (ppm). The analytical method GRM061.03A is used to measure and evaluate the chemical pydiflumetofen. Contact: RD.

Authority: 21 U.S.C. 346a.

Dated: December 4, 2025.
Edward Messina,
Director, Office of Pesticide Programs.

[FR Doc. 2025-22937 Filed 12-15-25; 8:45 am]

BILLING CODE 6560-50-P